FEDERAL COMMUNICATIONS COMMISSION

47 CFR Part 1

[FCC 14-24]

Schedule of Application Fees; Correction

AGENCY: Federal Communications Commission.

ACTION: Final rule; correction.

SUMMARY: In this document, we correct an inadvertent omission of the last page of the FY 2014 Application Fee Order. The page that was omitted was a table of application fees involving charges for applications and other filings for the Homeland Services.

DATES: Effective June 6, 2014.

FOR FURTHER INFORMATION CONTACT: Roland Helvajian, Office of Managing Director at (202) 418-0444.

SUPPLEMENTARY INFORMATION: This is a correction to the Order FCC 14-24 that was published in the Federal Register at 79 FR 26175, May 7, 2014. Accordingly, this corrects the document by publishing the last page of the FY 2014 Application Fee Order.

• On page 26175, add the following amendatory instruction and regulatory text:

9. Section 1.1109 is revised to read as follows:

§ 1.1109 Schedule of charges for applications and other filings for the Homeland services.

Payment can be made electronically using the Commission's electronic filing and payment system “Fee Filer” (www.fcc.gov/feefiler). Remit manual filings and/or payments for these services to: Federal Communications Commission, Homeland Bureau Applications, P.O. Box 979092, St. Louis, MO 63197-9000.

Service | FCC Form No. | Fee amount | Payment type code
1. Communication Assistance for Law Enforcement (CALEA) Petitions | Corres & 159 | $6,575.00 | CLEA

Federal Communications Commission.
Marlene H. Dortch,
Secretary.

[FR Doc. 2014-12805 Filed 6-2-14; 8:45 am]

BILLING CODE 6712-01-P